DEPARTMENT OF ENERGY

Federal Energy Regulatory Commission

Combined Notice of Filings #1

Take notice that the Commission received the following exempt wholesale generator filings:

Docket Numbers: EG15-29-000.

Applicants: Iberdrola Arizona Renewables, LLC.

Description: Notice of Non-Material Change in Facts of Iberdrola Arizona Renewables, LLC.

Filed Date: 12/10/14.

Accession Number: 20141210-5218.

Comments Due: 5 p.m. ET 12/31/14.

Docket Numbers: EG15-30-000.

Applicants: Cross & Company, PLLC.

Description: Molex Incorporated Notice of Exempt Wholesale Generator Status.

Filed Date: 12/18/14.

Accession Number: 20141218-5102.

Comments Due: 5 p.m. ET 1/8/15

Take notice that the Commission received the following electric rate filings:

Docket Numbers: ER10-2302-005.

Applicants: Public Service Company of New Mexico.

Description: Supplement to August 18, 2014 Notice of Change in Status of Public Service Company of New Mexico.

Filed Date: 12/17/14.

Accession Number: 20141217-5201.

Comments Due: 5 p.m. ET 1/7/15.

Docket Numbers: ER14-2916-000.

Applicants: Midcontinent Independent System Operator, Inc.

Description: Report Filing: 2014-12-18_SA 2698 OTP-Courtenay Wind Farm GIA_Response (J262/J263) to be effective N/A.

Filed Date: 12/18/14.

Accession Number: 20141218-5154.

Comments Due: 5 p.m. ET 1/8/15.

Docket Numbers: ER14-2936-000.

Applicants: Sunbury Generation LP.

Description: Report Filing: Sunbury PJM Refund Response to be effective N/A.

Filed Date: 12/18/14.

Accession Number: 20141218-5001.

Comments Due: 5 p.m. ET 1/8/15.

Docket Numbers: ER15-631-000.

Applicants: Crawfordsville Energy, LLC.

Description: Supplement to December 15, 2014 Crawfordsville Energy, LLC tariff filing.

Filed Date: 12/17/14.

Accession Number: 20141217-5120.

Comments Due: 5 p.m. ET 1/7/15.

Docket Numbers: ER15-645-000.

Applicants: PJM Interconnection, L.L.C.

Description: § 205(d) rate filing per 35.13(a)(2)(iii): Service Agreement No. 4053; Queue No. Z2-088 to be effective 11/18/2014.

Filed Date: 12/17/14.

Accession Number: 20141217-5161.

Comments Due: 5 p.m. ET 1/7/15.

Docket Numbers: ER15-646-000.

Applicants: AEP Generation Resources Inc.

Description: Request seeking Commission authorization for extension of an ongoing affiliate power sales agreement of AEP Generation Resources Inc.

Filed Date: 12/15/14.

Accession Number: 20141215-5326.

Comments Due: 5 p.m. ET 1/5/15.

Docket Numbers: ER15-647-000.

Applicants: Kay Wind, LLC.

Description: Initial rate filing per 35.12 Kay Wind MBR Tariff Revised to be effective 2/16/2015.

Filed Date: 12/18/14.

Accession Number: 20141218-5075.

Comments Due: 5 p.m. ET 1/8/15.

Docket Numbers: ER15-648-000.

Applicants: South Carolina Electric & Gas Company.

Description: Compliance filing per 35: NAESB Transmission Service Products—Attachment O to be effective 2/2/2015.

Filed Date: 12/18/14.

Accession Number: 20141218-5132.

Comments Due: 5 p.m. ET 1/8/15.

Docket Numbers: ER15-649-000.

Applicants: The Connecticut Light and Power Company.

Description: § 205(d) rate filing per 35.13(a)(2)(iii): Revision to Market Based Rate Tariff NUSCO Electric Rate Schedule, FERC No. 7 to be effective 2/16/2015.

Filed Date: 12/18/14.

Accession Number: 20141218-5182.

Comments Due: 5 p.m. ET 1/8/15.

Docket Numbers: ER15-650-000.

Applicants: Arizona Public Service Company.

Description: § 205(d) rate filing per 35.13(a)(2)(iii): Service Agreement No. 318 Modifications, NITS with NTUA to be effective 12/1/2014.

Filed Date: 12/18/14.

Accession Number: 20141218-5183.

Comments Due: 5 p.m. ET 1/8/15.

Docket Numbers: ER15-651-000.

Applicants: Public Service Company of New Hampshire.

Description: § 205(d) rate filing per 35.13(a)(2)(iii): Revision to Market Based Rate Tariff NUSCO Electric Rate Schedule, FERC No. 7 to be effective 2/16/2015.

Filed Date: 12/18/14.

Accession Number: 20141218-5184.

Comments Due: 5 p.m. ET 1/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2014.
Nathaniel J. Davis, Sr.,
Deputy Secretary.

[FR Doc. 2014-30258 Filed 12-24-14; 8:45 am]

BILLING CODE 6717-01-P